DEPARTMENT OF THE INTERIOR

Office of the Secretary

Wildland Fire Executive Council Meeting Schedule

AGENCY: Office of the Secretary, Interior.

ACTION: Notice of meeting.

SUMMARY: In accordance with the requirements of the Federal Advisory Committee Act, 5 U.S.C. App., 2, the U.S. Department of the Interior, Office of the Secretary, Wildland Fire Executive Council (WFEC) will meet as indicated below.

DATES: The next meeting will be held on April 5, 2013.

ADDRESSES: The meetings will be held from 10:00 a.m. to 1:00 p.m. on April 5 at the Main Interior Building, 1849 C Street NW., Washington, DC 20240, OWF Conference Room, Room 2654.

FOR FURTHER INFORMATION CONTACT: Shari Eckhoff, Designated Federal Officer, 300 E Mallard Drive, Suite 170, Boise, Idaho 83706; telephone (208) 334-1552; fax (208) 334-1549; or email Shari_Eckhoff@ios.doi.gov.

SUPPLEMENTARY INFORMATION: The WFEC is established as a discretionary advisory committee under the authorities of the Secretary of the Interior and Secretary of Agriculture, in furtherance of 43 U.S.C. 1457 and provisions of the Fish and Wildlife Act of 1956 (16 U.S.C. 742a-742j), the Federal Land Policy and Management Act of 1976 (43 U.S.C. 1701 et. seq), the National Wildlife Refuge System improvement Act of 1997 (16 U.S.C. 668dd-668ee), and the National Forest Management Act of 1976 (16 U.S.C. 1600 et.seq) and in accordance with the provisions of the Federal Advisory Committee Act, as amended, 5 U.S.C. App. 2. The Secretary of the Interior and Secretary of Agriculture certify that the formation of the WFEC is necessary and is in the public interest.

The purpose of the WFEC is to provide advice on coordinated national-level wildland fire policy and to provide leadership, direction, and program oversight in support of the Wildland Fire Leadership Council. Questions related to the WFEC should be directed to Shari Eckhoff (Designated Federal Officer) at Shari_Eckhoff@ios.doi.gov or (208) 334-1552 or 300 E. Mallard Drive, Suite 170, Boise, Idaho, 83706-6648.

Meeting Agenda: The meeting agenda will include: (1) Welcome and introduction of Council members; (2) Review and Deliberation on the Regional Cohesive Strategy Action Plans; (3) Expectations and Implementation of the Cohesive Strategy; (4) Activities and Timelines of the RSCs; (5) Public comments which will be scheduled for 12:30 p.m. to 1:00 p.m.; and (6) closing remarks. Participation is open to the public.

Public Input: All WFEC meetings are open to the public. Members of the public who wish to participate must notify Shari Eckhoff at Shari_Eckhoff@ios.doi.gov no later than the Friday preceding the meeting. Those who are not committee members and wish to present oral statements or obtain information should contact Shari Eckhoff via email no later than the Friday preceding the meeting. Depending on the number of persons wishing to comment and time available, the time for individual oral comments may be limited.

Questions about the agenda or written comments may be emailed or submitted by U.S. Mail to: Department of the Interior, Office of the Secretary, Office of Wildland Fire, Attention: Shari Eckhoff, 300 E. Mallard Drive, Suite 170, Boise, Idaho 83706-6648. WFEC requests that written comments be received by the Friday preceding the scheduled meeting. Attendance is open to the public, but limited space is available. Persons with a disability requiring special services, such as an interpreter for the hearing impaired, should contact Ms. Eckhoff at (202) 527-0133 at least seven calendar days prior to the meeting.

Dated: March 4, 2013.
Shari Eckhoff,
Designated Federal Officer.

[FR Doc. 2013-05403 Filed 3-7-13; 8:45 am]

BILLING CODE 4310-J4-P